DEPARTMENT OF COMMERCE

International Trade Administration

[C-570-083]

Certain Steel Wheels From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on certain steel wheels (steel wheels) from the People's Republic of China (China) would be likely to lead to continuation or recurrence of countervailing subsidies at the levels indicated in the “Final Results of Sunset Review” section of this notice.

DATES: Applicable August 9, 2024.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On May 24, 2019, Commerce published in the Federal Register the CVD order on Steel Wheels from China.¹ On April 1, 2024, Commerce initiated the first sunset review of the Order, pursuant to section 751(c) of the Tariff Act of 1930, as amended (the Act).² On April 16, 2024, Commerce received timely filed notices of intent to participate from Accuride and Maxion ³ (the petitioners) within the deadline specified in 19 CFR 351.218(d)(1)(i).⁴ The petitioners claimed interested party status under section 771(9)(C) of the Act as a producer and importer of the domestic like product.

¹ See Certain Steel Wheels from the People's Republic of China: Antidumping and Countervailing Duty Orders, 84 FR 24098 (May 24, 2019) (Order).

² See Initiation of Five-Year (Sunset) Reviews, 89 FR 22373 (April 1, 2024) (Initiation Notice).

³ Maxion was a petitioner under the corporate name Maxion Wheels Akron LLC. (Maxion ceased U.S. production of 22.5″ and 24.5″ wheels in 2020 when it closed its Akron plant.)

⁴ See Petitioners' Letter, “Notice of Intent to Participate in the First Five-Year Review, dated April 16, 2024.

On May 1, 2024, Commerce received an adequate substantive response to the Initiation Notice from the petitioners within the 30-day deadline specified in 19 CFR 351.218(d)(3)(i).⁵ We received no substantive responses from any other interested parties, including the Government of China. On May 22, 2024, Commerce notified the U.S. International Trade Commission that it did not receive an adequate substantive response from respondent interested parties.⁶ As a result, pursuant to section 751(c)(3)(B) of the Act and 19 CFR 351.218(e)(1)(ii)(B)-(C), Commerce conducted an expedited (120-day) sunset review of the Order, which made the deadline July 30, 2024. On July 22, 2024, Commerce tolled certain deadlines in this administrative proceeding by seven days.⁷ The deadline for these expedited final results of sunset review is now August 6, 2024.

⁵ See Petitioners' Letter, “Petitioners' Substantive Response to the Notice of Initiation,” dated May 1, 2024.

⁶ See Commerce's Letter, “Sunset Reviews for April 2024,” dated May 22, 2024.

⁷ See Memorandum, “Tolling of Deadlines for Antidumping and Countervailing Duty Proceedings,” dated July 22, 2024.

Scope of the Order

The scope of the Order covers certain on the road steel wheels, discs, and rims for tubeless tires, with a nominal rim diameter of 22.5 inches and 24.5 inches, regardless of width. For a complete description of the scope of the Order, see the Issues and Decision Memorandum.⁸

⁸ See Memorandum, “Decision Memorandum for the Final Results of the Expedited Sunset Review of the Countervailing Duty Order on Steel Wheels from China,” dated concurrently with and adopted by this notice (Issues and Decision Memorandum).

Analysis of Comments Received

All issues raised in this sunset review are addressed in the accompanying Issues and Decision Memorandum, which is hereby adopted by this notice. The issues discussed in the Issues and Decision Memorandum are listed as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would likely lead to continuation or recurrence of countervailable subsidy at the rates listed below.

Exporter/producer | Net subsidy rate (percent)
Xiamen Sunrise Wheel Group Co., Ltd | 457.10
Zhejiang Jingu Company Limited | 457.10
All-Others | 457.10

Administrative Protective Order (APO)

This notice serves as the only reminder to interested parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(b), and 777(i)(1) of the Act and 19 CFR 351.218.

Dated: August 5, 2024.
Scot Fullerton,
Acting Deputy Assistant Secretary for Antidumping and Countervailing Duty Operations.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rate Likely To Prevail

3. Nature of the Subsidies

VII. Final Results of Review

VIII. Recommendation

[FR Doc. 2024-17761 Filed 8-8-24; 8:45 am]

BILLING CODE 3510-DS-P